COMMITTEE FOR PURCHASE FROM PEOPLE WHO ARE BLIND OR SEVERELY DISABLED

Procurement List; Proposed Additions and Deletion

AGENCY: Committee for Purchase From People Who Are Blind or Severely Disabled.

ACTION: Proposed Additions to and Deletions From the Procurement List.

SUMMARY: The Committee is proposing to add to the Procurement List products and services to be furnished by nonprofit agencies employing persons who are blind or have other severe disabilities, and to delete a service previously furnished by such agencies.

Comments Must be Received on or Before: June 8, 2008.

ADDRESSES: Committee for Purchase From People Who Are Blind or Severely Disabled, Jefferson Plaza 2, Suite 10800, 1421 Jefferson Davis Highway, Arlington, Virginia 22202-3259.

For Further Information or To Submit Comments Contact: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Aircraft Assembly Parts

NSN: 1560-00-870-1656—Cover Access.

NSN: 1560-00-875-6001—Support, Structural.

NSN: 1560-01-114-0870—Bracket Assembly.

NSN: 1560-01-153-9682—Weather Strip.

NSN: 5365-00-159-3781—Shim.

NSN: 5365-00-159-3792—Shim.

NPA: The Lighthouse for the Blind, Inc. (Seattle Lighthouse), Seattle, WA.

Coverage: C-List for the requirement of the Defense Supply Center Richmond, Richmond, VA.

Contracting Activity: Defense Supply Center Richmond, Richmond, VA.

Cap, Garrison, Unisex U.S. Navy

NSN: 8405-01-539-5868—Size 6⅜.

NSN: 8405-01-539-5869—Size 6½.

NSN: 8405-01-539-5873—Size 6⅝.

NSN: 8405-01-539-5887—Size 6¾.

NSN: 8405-01-539-5888—Size 6⅞.

NSN: 8405-01-539-5889—Size 7.

NSN: 8405-01-539-5891—Size 7⅛.

NSN: 8405-01-539-5892—Size 7¼.

NSN: 8405-01-539-5894—Size 7⅜.

NSN: 8405-01-539-5895—Size 7½.

NSN: 8405-01-539-5897—Size 7⅝.

NSN: 8405-01-539-5900—Size 7¾.

NSN: 8405-01-539-5934—Size 7⅞.

NSN: 8405-01-539-5937—Size 8.

NSN: 8405-01-539-5939—Size 8⅛.

NSN: 8405-01-539-5962—Size 8¼.

NSN: 8405-01-539-5969—Size 8⅜.

NSN: 8405-01-539-6335—Size 8½.

NPA: Goodwill Industries of South Florida, Inc., Miami, FL.

Coverage: C-List for 25% of the requirement of the Defense Supply Center Philadelphia. Philadelphia, PA.

Contracting Activity: Defense Supply Center Philadelphia, Philadelphia, PA.

Services

Service Type/Location: Mailroom Operations, Fort Stewart, 1042 William H. Wilson Avenue, Fort Stewart, GA.

NPA: Abilities, Inc. of Florida, Clearwater, FL.

Contracting Activity: Army Contracting Agency, Directorate of Contracting, Fort Stewart, GA.

Service Type/Location: Mailroom Operations, Internal Revenue Service, 10715 David Taylor Drive, Charlotte, NC.

NPA: Employment Source, Inc., Fayetteville, NC,

NPA: ServiceSource, Inc., Alexandria, VA (PRIME CONTRACTOR).

Contracting Activity: U.S. Department of the Treasury, Internal Revenue Service Headquarters, Oxon Hill, MD.

Deletion

Regulatory Flexibility Act Certification

I certify that the following action will not have a significant impact on a substantial number of small entities. The major factors considered for this certification were:

1. If approved, the action should not result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

Comments on this certification are invited. Commenters should identify the statement(s) underlying the certification on which they are providing additional information.

End of Certification

The following service is proposed for deletion from the Procurement List:

Service

Service Type/Location: Janitorial/Custodial, Veterans Affairs Medical Center, Seattle, WA.

NPA: Seattle Mental Health Institute, Inc., Seattle, WA.

Contracting Activity: Department of Veterans Affairs, Seattle, WA.

Dennis Lockard,
General Counsel.

[FR Doc. E8-10373 Filed 5-8-08; 8:45 am]

BILLING CODE 6353-01-P